DEPARTMENT OF THE INTERIOR

Fish and Wildlife Service

Draft Handbook for Candidate Conservation Agreements With Assurances and Enhancement of Survival Permit Processing

AGENCY: Fish and Wildlife Service, Interior.

ACTION: Notice of document availability; extension of comment period.

SUMMARY: We, the U.S. Fish and Wildlife Service, are extending the comment period for the Draft Handbook for Candidate Conservation Agreements with Assurances and Enhancement of Survival Permit Processing. This draft document provides internal guidance for conducting the Candidate Conservation Agreement with Assurances permit program under section 10(a)(1)(A) of the Endangered Species Act of 1973, as amended (Act). Comments previously submitted need not be resubmitted as they will be incorporated into the public record as part of this extended comment period, and will be fully considered in the final rule.

DATES: Comments on the Draft Handbook for Candidate Conservation Agreements with Assurances and Enhancement of Survival Permit Processing must be received on or before September 22, 2003, to be considered during preparation of a final guidance document.

ADDRESSES: Persons wishing to review the Draft Handbook for Candidate Conservation Agreements with Assurances and Enhancement of Survival Permit Processing may obtain a copy by contacting the Division of Conservation and Classification, U.S. Fish and Wildlife Service, 4401 North Fairfax Drive, Room 420, Arlington, Virginia 22203 (telephone 703/358-2105), and may be viewed at: http://endangered.fws.gov/candidates/ccaahandbook.html. Written comments and materials regarding the draft guidance should be directed to the same address. Comments and materials received will be available for public inspection, by appointment, during normal business hours at the above address.

FOR FURTHER INFORMATION CONTACT: Chris Nolin, Chief, Division of Conservation and Classification, U.S. Fish and Wildlife Service, at the above address (703-358-2105)

SUPPLEMENTARY INFORMATION:

Background

On June 23, 2003, we published in the Federal Register a notice of availability for the draft Handbook for Candidate Conservation Agreements with Assurances and Enhancement of Survival Permit Processing (68 FR 37170). This draft handbook provides consistent procedures and policies for the Service's compliance with the enhancement of survival permit provisions of section 10(a)(1)(A) of the Act. Consistency in the section 10(a)(1)(A) program will be achieved by (1) providing national procedural and policy guidance; (2) providing standardized guidance to our offices and personnel who participate in the Candidate Conservation Agreements with Assurances program and review and process enhancement of survival permit applications; (3) ensuring uniform Service compliance with section 10(a)(1)(A) of the Act associated with a Candidate Conservation Agreement with Assurances; (4) providing assistance to applicants in the non-Federal sector who wish to apply for enhancement of survival permits; and (5) providing for conservation of federally proposed, candidate, and other at-risk species. For further information, please refer to the June 23, 2003, Federal Register notice and the draft Handbook.

Public Comments Solicited

We intend that a final decision on the Draft Handbook for Candidate Conservation Agreements with Assurances and Enhancement of Survival Permit Processing will take advantage of information and recommendations from all interested parties. Therefore, comments or suggestions from the public, other concerned governmental agencies, the scientific community, industry, or any other interested party concerning this draft document are hereby solicited. All comments and materials received will be considered prior to the approval of a final document. Previously submitted comments need not be resubmitted.

Authority: The authority for this action is the Endangered Species Act of 1973, as amended (16 U.S.C. 1531 et seq.).

Dated: August 4, 2003.
Steve Williams,
Director, Fish and Wildlife Service.

[FR Doc. 03-21623 Filed 8-22-03; 8:45 am]

BILLING CODE 4310-55-P